DEPARTMENT OF JUSTICE

Notice of Lodging of Second Agreement and Order Regarding Modification of the Consent Decree Under the Clean Water Act

Notice is hereby given that on January 19, 2012, a proposed Second Agreement and Order Regarding Modification of the Consent Decree (“Second Consent Decree Modification”) in United States and Louisiana v. City of Baton Rouge, Civil Action No. 3:01-cv-00978-FJP-CN, was lodged with the United States District Court for the Middle District of Louisiana.

This action was originally filed in 2001 by the United States and the State of Louisiana under Clean Water Act (“CWA”) Section 301, 33 U.S.C. 1311, seeking civil penalties and injunctive relief for violations related to the publically owned treatment works owned and operated by the City of Baton Rouge and the Parish of East Baton Rouge (collectively “the City/Parish”). On March 14, 2002, the Court entered a Consent Decree resolving all claims in the Complaint (“the 2002 Consent Decree”). Among other requirements, the 2002 Consent Decree required the City/Parish to complete implementation by January 1, 2015 of a project to improve its sewage collection system including addressing Unauthorized Discharges such as sanitary sewer overflows. Under the proposed Second Consent Decree Modification, the deadline would be extended to January 1, 2018 and the City/Parish would implement additional work including installation of a supervisory control and data acquisition system and installation of emergency generators at over 400 pump stations used in the sewage collection system.

The Department of Justice will receive for a period of thirty (30) days from the date of this publication comments relating to the Second Consent Decree Modification. Comments should be addressed to the Assistant Attorney General, Environment and Natural Resources Division, and either emailed to pubcomment-ees.enrd@usdoj.gov or mailed to P.O. Box 7611, U.S. Department of Justice, Washington, DC 20044-7611, and should refer to United States and Louisiana v. City of Baton Rouge, D.J. Ref. 90-5-1-1-2769/1.

During the public comment period, the Second Consent Decree Modification, may also be examined on the following Department of Justice Web site: http://www.usdoj.gov/enrd/Consent_Decrees.html. A copy of the Second Consent Decree Modification may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $7.25 (25 cents per page reproduction cost) payable to the U.S. Treasury or, if requesting by email or fax, forward a check in that amount to the Consent Decree Library at the address given above.

Maureen M. Katz,
Assistant Chief, Environmental Enforcement Section, Environment and Natural Resources Division.

[FR Doc. 2012-1577 Filed 1-25-12; 8:45 am]

BILLING CODE 4410-15-P